DEPARTMENT OF COMMERCE

Foreign-Trade Zones Board

[B-54-2025]

Foreign-Trade Zone (FTZ) 84, Notification of Proposed Production Activity; Q-Edge Corporation; (Hardware/Modules Relating to Consumer Electronics and Servers); Houston, Texas

Q-Edge Corporation (Q-Edge) submitted a notification of proposed production activity to the FTZ Board (the Board) for its facility in Houston, Texas within FTZ 84. The notification conforming to the requirements of the Board's regulations (15 CFR 400.22) was received on December 19, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: plastic air guide hood; laptop; tablet; desktop computer; server; main logic board; motherboard with data processing function; keyboard; notebook sub-assembly; stylus pen; solid-state drive-storage unit for data; projection module; aluminum alloy keycap; antenna for microcomputer; expansion circuit board for audio and video with USB interface; back cover for tablets made of aluminum alloy; plastic conduits to hold wires; cover assembly of aluminum alloy; steel or plastic; cushioning pad made of plastic; fixed steel clamp; fixed steel frame for computer; plastic front cover for computers and servers; laptop computer upper casing made of aluminum alloy; laptop; memory expansion interface circuit board; computer case frame made of aluminum alloy; network interface expansion circuit board and interface card; network interface card; protective plastic cover computers, server and pencil; tablet computer keyboard with motherboard and protective cover; tablet computer keyboard; server motherboard with central processing unit; stylus pen for use with tablet; cell phone; smart TV streaming module with wireless network adapter; smartwatch; Bluetooth audio device; antenna module for smartphone; smartwatch main logic board; smart phone main logic board; semi-finished assembly for smartwatch; smartwatch back cover assembly; speaker module; sub-assembly receiver; mainboard for earphones; touchscreen with liquid crystal display for tablet; organic light-emitting diode display module for smartwatch; display assembly for smart phone; camera lens; camera module; driver circuit board for display; rear camera module; power switch panel without signal transmission lines; light emitting diode; touch panel for tablets and servers; ringer device; and, laser radar scanning module (duty rate ranges from duty-free to 4.50%).

The proposed foreign-status materials/components include: double-sided adhesive tape; hot melt adhesive film; solder paste; humidity indicator sheet made of cellulose-based paper with reactive dye; composite electromagnetic shielding sheet used to prevent interference; thermal conductive sheet made of silicone and alumina; heat gel; plastic pellets of polyethylene; plastic granules acrylonitrile butadiene styrene; polyethylene with primary shape of formaldehyde; plastic granules of polycarbonate; plastic granules of polycarbonate and acrylonitrile butadiene styrene with polycarbonate content greater than 50%; plastic granules of high-performance polyamides; plastic granules of high-performance polyamides; plastic granules of polyamides; heat resistant labels; self-adhesive protective film made of polyethylene foam for support and protection of goods; protective film of ethylene; polypropylene protective film; acrylic plastic sheet; polycarbonate protective film; protective polyethylene terephthalate plastic film; polyurethane protective film; plastic synthetic leather foam; plastic foam for protection and support of servers; silicone rubber cushion pad; plastic protective cover for tablets; sulfurized rubber shim; vulcanized rubber sealing gasket; vulcanized rubber spacer; protective paper dustproof separator; polyester fiber conductive and antistatic mesh fabric for microphone; glass panel for laptop; fiberglass and resin support board for tablet keyboard; fiberglass spacer; cold-rolled stainless-steel strip; steel acoustic module temporary screw; steel stud and rod with diameter greater than 6mm; steel nut; steel spacer; steel washer; steel button holder; steel spring; steel spiral spring; steel test block; titanium copper alloy foil; tinfoil; phosphor bronze foil; copper gasket; copper slotted nuts copper; copper nut; brass nut; copper spring; aluminum alloy extrusion; aluminum alloy rectangular thick plate; aluminum foil with padding and paper backing; aluminum rivets; aluminum studs; aluminum alloy test block; aluminum spacer; standard black of tantalum; subscriber identity module card ejector; chain link made of steel; stainless steel, glass and plastic decorative name plate; plastic heat dissipation fan; plastic air guide hood; laptop computer; motherboard with central processing unit; main logic board for tablet, computers, and servers; keyboard for tablet; touchpad for laptop; notebook computer bottom casing components of aluminum alloy; magnet and steel absorption strip; antenna with cover; steel axle protection cover; backlight module; backlight panel; built-in microphone with acoustic protection cover; steel dust net; plastic clips; plastic buttons; aluminum alloy computer cover; copper and polyester fiber conductive film; stainless steel connection bar; plastic and steel fixed mounting bracket; plastic and steel fixed board; plastic steel fixed bar, brackets and clips; plastic and steel fixed brackets; plastic and teel fixed clips; metal (stainless steel/copper/alloy) or conductive composite electromagnetic shielding; glass protective panel; heat sink; interface extension circuit board; keyboard panel; fiberglass and resin keyboard mounting block; keypad function control circuit board; light emitting diode indicator circuit board; light sensing circuit board; motherboard (without CPU); heatsink without fan for passive cooling; protective screen with casing; strip non-wired coated float glass; vulcanized rubber, plastic or steel spacer; tablet keyboard; silicone and aluminum oxide thermal interface to dissipate heat in tablets; touch screen for smartwatch and laptop; signal sensing circuit board; SIM card tray; soft circuit connector; copper alloy support frame; fiberglass keyboard support and protective panel; table keyboard mounting frame; wireless charging pad; power management board; printed circuit board assembly for servers; plastic, copper alloy, aluminum, nickel-plated or steel fixed bracket; passive heat sink; vibration component for smart watch; transformer; switching stabilized power adapter and supply; inductor; multilayer inductor; magnet; lithium-ion battery; lithium-ion batteries pack; wireless network adapter; antenna; circuit board for audio signal control; conductive buffer pad with backing; aluminum alloy, stainless steel or titanium alloy cover component for smartwatch; aluminum and nickel plating or plastic and copper alloy fixed plate; aluminum and nickel plating or plastic and copper alloy fixed circle and mounting bracket; aluminum and nickel plating or plastic and copper alloy fixed mounting bracket; function selection knob for smartwatch; electromagnetic shielding for cell phone; flexible circuit connection board with connector; aluminum alloy digital multimedia machine cover; plastic and graphite particles with plastic backing heat sink; border bracket module for cellular phone made of aluminum alloy; face recognition module; support chip for cellular phone; electronic circuit board for smartwatch; motherboard; device housing made of aluminum for smartwatch; wireless charging receiving board; aluminum alloy rear cover for smartwatch and tablet; ringer button module and support chip; subscriber identity module slot; wireless charging coil for smart watch; microphone; speaker module; sub-assembly receiver; mainboard for earphones; rubber microphone protective membrane; smart integrated circuit card; liquid crystal display module with touchscreen for tablet and laptop; organic light-emitting diode display module w/touch screen for smartwatch; camera and lighting module; wireless charging display stands for smartwatch; tantalum capacitor; aluminum electrolytic capacitor; ceramic plate; multilayer ceramic chip capacitor; surface-mount resistor; chip fixed resistor; thick film resistor; thermistor; variator; voltage-dependent resistor; printed circuit board; bare printed circuit board; fuse tube circuit breaker; circuit control and protection board; switch with relay; power adapter plug and connector; coaxial switch connector; plug in conductive connector made of copper with an insulating layer; powered circuit board assembly for servers; power manger board; triode; diode; transient voltage suppressor; transistor (field effect transistor less than 1 watt); transistors; schottky rectifier diode; light-emitting diode; resonator; bi-directional transient voltage suppressor diode; piezoelectric transistor; piezoelectric crystal; crystal oscillator; integrated circuit processor and controller; integrated circuit system on chip; integrated circuit memory used for storage; integrated circuit flash memory; multi-piece integrated circuit used as an amplifier; integrated circuit power multiplexer; multi-functional integrated circuit oscillator for micro-electronic system; infrared remote control; magnetic switch; development board to test applications and functions of smartwatch; wireless charging transmitter board; coaxial signal transmission line; wired cable with connector; wire harness; plastic insulating sheet; plastic insulating sleeves; ceramic and lithium niobate or lithium tantalate terminal patch filter; ceramic and lithium niobate or lithium tantalate terminal electromagnetic interference filter; touchscreen for tablet; ferrite bead; conversion diffusion sheet used to insulate and protect within laptop assembly; backlight module for laptop; plastic light guidepost; plastic light guide sheet; plastic reflex film; sub-assembly flash lamp and ringer cell phone and tablet; laser sensor to determine distance and depth on tablet; temperature sensor; and, light sensor (duty rate ranges from duty-free to 15%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is February 9, 2026.

A copy of the notification will be available for public inspection in the “Online FTZ Information System” section of the Board's website.

For further information, contact Brian Warnes at brian.warnes@trade.gov.

Dated: December 23, 2025.
Elizabeth Whiteman,
Executive Secretary.

[FR Doc. 2025-24068 Filed 12-30-25; 8:45 am]

BILLING CODE 3510-DS-P